DEPARTMENT OF EDUCATION

Applications for New Awards; American Indian Vocational Rehabilitation Training and Technical Assistance Center

AGENCY: Office of Special Education and Rehabilitative Services, Department of Education.

ACTION: Notice.

SUMMARY: The Department of Education (Department) is issuing a notice inviting applications for fiscal year (FY) 2021 for American Indian Vocational Rehabilitation Training and Technical Assistance Center (AIVRTTAC)—Assistance Listing Number 84.250Z—to provide training and technical assistance (TA) to governing bodies of Indian Tribes that have received an American Indian Vocational Rehabilitation Services (AIVRS) grant.

DATES:

Applications available: March 16, 2021.

Deadline for transmittal of applications: June 14, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Jerry Elliott, U.S. Department of Education, 400 Maryland Avenue SW, Room 5097, Potomac Center Plaza, Washington, DC 20202-2800. Telephone: (202) 245-7335. Email: jerry.elliott@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of this program is to provide training and TA to governing bodies of Indian Tribes, and consortia of those governing bodies, that have received an AIVRS grant under section 121(a) of the Rehabilitation Act of 1973, as amended (Act). Under section 121(c)(2) of the Act, the Commissioner of the Rehabilitation Services Administration (RSA) makes grants to, or enters into contracts or other cooperative agreements with, entities that have experience in the operation of AIVRS programs to provide such training and TA on developing, conducting, administering, and evaluating these programs.

Priority: This priority is from the notice of final priority and definitions (NFP) for this program published elsewhere in this issue of the Federal Register.

Absolute Priority: For FY 2021, this priority is an absolute priority. Under 34 CFR 75.105(c)(3), we consider only applications that meet this priority.

This priority is:

American Indian Vocational Rehabilitation Services—Training and Technical Assistance Program

This priority funds a five-year cooperative agreement to establish an American Indian Vocational Rehabilitation Training and Technical Assistance Center (AIVRTTAC) to provide four types of training and technical assistance (TA) for the personnel of the American Indian Vocational Rehabilitation Services (AIVRS) projects awarded under section 121(a) of the Rehabilitation Act of 1973, as amended (Act), to the governing bodies of Indian Tribes and consortia of those governing bodies. The four types of training and TA are: (1) Intensive training and TA; (2) targeted training and TA; (3) universal training and TA; and (4) capacity-building for AIVRS project personnel through training modules that build foundational skills for the delivery of vocational rehabilitation (VR) services to AIVRS project participants. The AIVRTTAC will develop and provide these types of training and TA for AIVRS projects in the following topic areas:

(a) Applicable laws and regulations governing the AIVRS program.

(b) Promising practices for providing VR services to American Indians with disabilities.

(c) The delivery of VR services to American Indians with disabilities, including the determination of eligibility, case management, case record documentation, assessment, development of the individualized plan for employment, and placement into competitive integrated employment.

(d) Knowledge of assistive technology (AT), including the definition of AT, how to evaluate the need for AT and what types of AT are available, use of AT, and access to AT.

(e) Implementing professional development practices to ensure effective project coordination, administration, and management.

(f) Implementing appropriate financial and grant management practices to ensure compliance with OMB's Uniform Guidance (2 CFR part 200) and the Education Department General Administrative Regulations.

(g) Evaluating project performance, including data collection, data analysis, and reporting.

Specific subjects for training and TA in each of these topic areas will be identified on an annual basis and in coordination with RSA.

Project Activities

To be considered for funding under this priority, applicants must conduct the following activities, or a subset of the following activities as determined by the Department, in a culturally appropriate manner:

(a) Maintain and build upon the 12 training modules and the fiscal tool kit developed by the Tribal Vocational Rehabilitation Institute (the Institute) during Federal fiscal years (FFYs) 2015-2021, including maintaining the series of seven training modules that build foundational skills that, when satisfactorily completed, lead to a VR certificate to be awarded by the AIVRTTAC. To satisfy this activity requirement, the grantee—

(i) Must develop both academic and non-academic options for completing courses leading to the VR certificate, the requirements for obtaining a certificate including the specific requirements for academic credit for courses included in the certificate when applicable, and how the certificate may be used by the participants who earn it;

(ii) May offer the series of training modules in a traditional classroom setting, through distance learning, through week-long institutes, at regional trainings throughout the country as an extension of national conferences, and through other delivery methods, as appropriate, to meet the needs of the targeted audience;

(iii) May use grant funds to provide reasonable financial assistance for the cost of tuition, fees, and training materials and to offset costs associated with travel for participants who may be in remote areas of the country;

(iv) Must conduct an assessment before and after providing training for each participant in order to assess strengths and specific areas for improvement, educational attainment and application of skills, and any issues or challenges to be addressed post-training to ensure improved delivery of VR services to American Indians with disabilities;

(v) Must provide follow-up TA to participants to address any issues or challenges that are identified post-training and to ensure that the training they received is applied effectively in their work setting, and such follow-up may be conducted as part of the provision of targeted training and TA or intensive training and TA as determined by the needs of the specific AIVRS project;

(vi) Must conduct an evaluation to obtain feedback on the training and follow-up TA and to determine whether this training and TA contributed to increased employment outcomes for American Indians with disabilities;

(vii) Are encouraged to develop a path by which courses offered for academic credit lead to a degree in Rehabilitation or a related field; and

(viii) May develop additional training modules as negotiated through the cooperative agreement.

(b) Maintain and build upon the topics and tools the current AIVRRTAC has developed to provide intensive training and TA. To satisfy this activity requirement, the grantee must—

(i) Develop and provide intensive training and TA to a minimum of three AIVRS projects in the first year. For future years, the minimum number of AIVRS projects to receive intensive training and TA will be negotiated through the cooperative agreement;

(ii) Develop and implement training and TA consistent with AIVRS project activities and tailored to the specific needs and challenges of the AIVRS project receiving the intensive training and TA;

(iii) Provide training and TA under an agreement with each AIVRS project receiving intensive training and TA that, at a minimum, details the purpose of the training and TA, intended outcomes, and requirements for the subsequent evaluation of the training and TA; and

(iv) Assess the results of the training and TA 90 days after its completion to ensure that the recipient is able to apply effectively the training and TA, identify any issues or challenges in its implementation, and provide additional training and TA, either virtually or on-site, as needed.

(c) Maintain and build upon the topics and tools the current AIVRTTAC has developed to provide a range of targeted training and TA in the topic areas described in this priority based on needs common to multiple AIVRS projects. The grantee must follow up with the recipients of targeted training and TA it provides to determine the effectiveness of the training and TA;

(d) Maintain and build upon the topics and tools the current AIVRTTAC has developed to provide universal training and TA in the topic areas in this priority;

(e) Provide a minimum of two webinars or video conferences in each of the topic areas in this priority to describe and disseminate up-to-date information, guides, examples, and emerging and promising practices in each area;

(f) Develop new information technology (IT) platforms and systems, or modify existing platforms and systems, as follows:

(i) Develop or modify, and maintain, a state-of-the-art IT platform capable and reliable enough to support webinars, teleconferences, video conferences, and other virtual methods of dissemination of information and TA;

(ii) Develop or modify, and maintain, a state-of-the-art archiving and dissemination system that is open and available to all AIVRS projects and that provides a central location for all AIVRS training and TA products for later use, including course curricula, audiovisual materials, webinars, examples of promising practices related to the topic areas in this priority, the primary areas identified through the annual surveys completed by AIVRS projects, other topics identified by RSA, and other relevant TA products (the possibility of collaborating with the National Clearinghouse of Rehabilitation Training Materials will be considered with the grantee and included in the cooperative agreement, as appropriate);

(iii) Ensure that all products produced by the AIVRTTAC meet government and industry-recognized standards for accessibility; and

(iv) Ensure that all products, resources, and materials developed by the AIVRTTAC are widely disseminated across the AIVRS projects and reflect the AIVRS population and diversity among its communities to the maximum extent possible.

(g) Establish a community of practice (or communities of practice) that will serve as a vehicle for communication, an exchange of information among AIVRS projects, and a forum for sharing the results of training and TA projects that are in progress or have been completed;

(h) Conduct outreach to AIVRS projects so that they are aware of, and can participate in, training and TA activities; and

(i) Conduct an evaluation to determine the quality, relevance, and usefulness of the AIVRTTAC's training and TA, including the impact of the AIVRTTAC's activities on the ability of AIVRS projects to effectively manage their projects and improve the delivery of VR services to American Indians with disabilities.

Project Requirements

To be funded under this priority, applicants must meet the project requirements in this priority. RSA encourages innovative approaches to meet these requirements, which are—

(a) Demonstrate in the narrative section of the application under “Significance of the Proposed Project” how the proposed project will—

(1) Use the applicant's knowledge and experience in the operation of AIVRS projects to provide training and TA for these projects;

(2) Address the AIVRS projects' capacity to effectively implement an AIVRS project. To meet this requirement, the applicant must—

(i) Demonstrate knowledge of emerging and promising practices in the topic areas in this priority;

(ii) Demonstrate knowledge of current RSA guidance and Federal initiatives designed to improve the functioning of grant projects in general and grant projects for American Indian Tribes in particular; and

(iii) Present information about the difficulties that AIVRS grantees have encountered in implementing effective AIVRS projects;

(b) Demonstrate in the narrative section of the application under “Quality of Project Design” how the proposed project will—

(1) Achieve its goals, objectives, and intended outcomes. To meet this requirement, the applicant must provide—

(i) Measurable intended project outcomes;

(ii) A plan for how the proposed project will achieve its intended outcomes;

(iii) A plan for communicating and coordinating with RSA and key personnel of AIVRS projects; and

(iv) A draft training module or outline for a targeted training and TA presentation or an outline for intensive training and TA activities for one of the topic areas in this priority to demonstrate how participants would be trained in that area. The module or outline is a required attachment in the application and must include, at a minimum, the following:

(A) The goals and objectives of this training module, targeted training and TA activity, or intensive training and TA activities;

(B) A specific list of what participants should know and be able to do as a result of successfully completing the module, targeted training and TA activity, or intensive training and TA activities;

(C) Up-to-date resources, publications, applicable laws and regulations, and other materials that may be used to develop the module, targeted training and TA activity, or intensive training and TA activities;

(D) Exercises that will provide an opportunity for application of the subject matter;

(E) A description of how participant knowledge, skills, and abilities will be measured; and

(F) In the case of an intensive training and TA intervention, how the outcomes and impact of the intensive training and TA intervention will be measured;

(2) Use a logic model to develop project plans and activities that includes, at a minimum, the goals, activities, outputs, and outcomes of the proposed project;

(3) Be based on current research and make use of emerging and promising practices, and evidence-based practices, where available. To meet this requirement the applicant must describe—

(i) The current research on the emerging and promising practices in the topic areas in this priority; and

(ii) How the AIVRTTAC will incorporate current research and promising and evidence-based practices, including research about adult learning principles and implementation science, in the development and delivery of its products and services;

(4) Develop products and provide services that are of high quality and of sufficient intensity and duration to achieve the intended outcomes of the proposed project. To address this requirement the applicant must describe—

(i) Its proposed approach to universal training and TA;

(ii) Its proposed approach to targeted training and TA, which must identify—

(A) The intended recipients of the products and services under this approach, including the categories of personnel that would be receiving the training and TA;

(B) Its proposed methods for providing targeted training and TA; and

(C) Its proposed methodology for determining topics for the targeted training and TA;

(iii) Its proposed approach to intensive training and TA, which must identify—

(A) Its proposed approach to identifying recipients for intensive training and TA;

(B) Its proposed methodology for providing intensive training and TA to recipients; and

(C) Its proposed approach to assessing the training and TA needs of recipients, including their ability to respond effectively to the training and TA; and

(iv) Its proposed approach to maintaining and building upon capacity-building modules, which must identify—

(A) Its proposed approach to maintaining the 12 training modules and the fiscal tool kit developed by the Institute in FFYs 2015-2021, including maintaining the series of seven training modules that build foundational skills that, when satisfactorily completed, lead to a VR certificate to be awarded by the grantee; and

(B) Its proposed approach to identifying, developing, and delivering new capacity-building modules; and

(5) Develop products and implement services to maximize the proposed project's efficiency. To address this requirement, the applicant must describe—

(i) How the proposed project will use technology to achieve the intended project outcomes;

(ii) With whom the proposed project will collaborate and the intended outcomes of this collaboration; and

(iii) In particular, how the proposed project will coordinate and collaborate with other RSA-funded technical assistance centers to exchange and adapt relevant products and materials to avoid duplication and make effective use of grant funds to better manage the AIVRTTAC project and its available resources to improve service delivery to AIVRS projects;

(c) Demonstrate in the narrative section of the application under “Adequacy of Project Resources” how—

(1) The applicant and any key partners possess adequate resources to carry out the proposed activities; and

(2) The proposed costs are reasonable in relation to the anticipated results and benefits;

(d) Demonstrate in the narrative section of the application under “Quality of Project Personnel” how—

(1) The proposed project will encourage applications for employment from persons who are members of groups that have historically been underrepresented based on race, color, national origin, gender, age, or disability, as appropriate; and

(2) The proposed key project personnel, consultants, and subcontractors have the qualifications and experience to provide training and TA to AIVRS projects in each of the topic areas in this priority and to achieve the project's intended outcomes, including how the proposed project personnel have a high degree of knowledge and understanding of cultural factors that will be sufficient to ensure the delivery of training and TA in a culturally appropriate manner;

(e) Demonstrate in the narrative section of the application under “Quality of the Management Plan” how the proposed management plan will ensure that the project's intended outcomes will be achieved on time and within budget. To address this requirement, the applicant must describe—

(1) Clearly defined roles and responsibilities for at least two full-time key project personnel designated to the AIVRTTAC through the entire project period and for consultants and subcontractors, as applicable;

(2) Timelines and milestones for accomplishing the project tasks;

(3) Using a personnel loading chart, detailed project activities through the entire project period, key personnel and any consultants or subcontractors that will be allocated to each activity, and the designated level of effort for each of those activities;

(4) How the personnel allocations in the personnel loading chart are appropriate and adequate to achieve the project's intended outcomes, including an assurance that all personnel will communicate with stakeholders and RSA in a timely way;

(5) How the proposed management plan will ensure that the training and TA products developed through this cooperative agreement are complete, accurate, and of high quality; and

(6) How the proposed project will benefit from a diversity of perspectives, including AIVRS projects and consumers, State VR agencies, TA providers, and policy makers, in its development and operation; and

(f) Demonstrate in the narrative section of the application under “Quality of the Evaluation Plan” how the applicant proposes to collect and analyze data on specific and measurable goals, objectives, and intended outcomes of the project, including the effectiveness of the training and TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual training and TA activities achieved their intended outcomes.

Definitions: These definitions are from the NFP.

Intensive training and technical assistance means training and TA provided to the governing bodies of Indian Tribes that have received an AIVRS grant and to the current personnel of the AIVRS projects primarily on-site over an extended period. Intensive training and TA is based on an ongoing relationship between the training and TA center staff and the governing bodies of Indian Tribes that have received an AIVRS grant and the current personnel of the AIVRS projects under the terms of a signed intensive training and TA agreement.

Targeted training and technical assistance means training and TA based on needs common, to one or more governing bodies of Indian Tribes that have received an AIVRS grant and to the current personnel of the AIVRS projects on a time-limited basis and with limited commitment of training and TA center resources. Targeted training and TA are delivered through virtual or in-person methods tailored to the identified needs of the participating governing bodies of Indian Tribes that have received an AIVRS grant and to the current personnel of the AIVRS projects.

Universal training and technical assistance means training and TA broadly available to governing bodies of Indian Tribes that have received an AIVRS grant and to the current personnel of the AIVRS projects and other interested parties through their own initiative, resulting in minimal interaction with training and TA center staff. Universal training and TA includes generalized presentations, products, and related activities available through a website or through brief contacts with the training and TA center staff.

Program Authority: 29 U.S.C. 741.

Note: Projects will be awarded and must be operated in a manner consistent with the nondiscrimination requirements contained in Federal civil rights laws.

Applicable Regulations: (a) The Education Department General Administrative Regulations in 34 CFR parts 75, 77, 81, 82, 84, and 86. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP.

Note: The regulations in 34 CFR part 86 apply to institutions of higher education only.

II. Award Information

Type of Award: Discretionary grant.

Estimated Available Funds: $1,013,000.

Estimated Average Size of Awards: $1,013,000.

Estimated Number of Awards: 1.

Note: The Department is not bound by any estimates in this notice.

Project Period: Up to 60 months.

Continuing the Fourth and Fifth Years of the Program: In deciding whether to continue funding fourth and fifth years, the Department will consider, as part of the review, the cooperative agreement, the application narrative, and the annual performance reports; the degree to which AIVRTTAC demonstrates substantial progress in providing intensive training and TA to AIVRS projects, targeted training and TA to AIVRS projects, universal training and TA to AIVRS projects, and capacity-building for AIVRS project personnel through training modules that build foundational skills for the delivery of VR services to AIVRS project participants; and the extent to which the training and TA provided has had an impact on the ability of AIVRS projects to implement appropriate practices in the seven topic areas outlined in the priority.

III. Eligibility Information

1. Eligible Applicants: State, local, or Tribal governments, nonprofit organizations, or institutions of higher education that have experience in the operation of AIVRS programs.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. Applicants for this program are State, local, or Tribal governments, nonprofit organizations, or institutions of higher education that have experience in the operation of AIVRS programs and have negotiated indirect cost rate agreements with a cognizant agency if indirect costs will be charged to the grant. For more information regarding indirect costs, or to obtain a negotiated indirect cost rate, please see www2.ed.gov/about/offices/list/ocft/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This competition is not subject to Executive Order 12372 and the regulations in 34 CFR part 79.

3. Funding Restrictions: We reference regulations outlining funding restrictions in the Applicable Regulations section of this notice.

V. Application Review Information

1. Selection Criteria: The selection criteria for this competition are from 34 CFR 75.210, have a maximum score of 100 points, and are as follows:

(a) Need for Project and Significance (10 Points):

The Secretary considers the need for and significance of the proposed project. In determining the need for and significance of the proposed project, the Secretary considers the following factors:

(1) The magnitude of the need for the services to be provided or the activities to be carried out by the proposed project.

(2) The extent to which specific gaps or weaknesses in services, infrastructure, or opportunities have been identified and will be addressed by the proposed project, including the nature and magnitude of those gaps or weaknesses.

(3) The potential contribution of the proposed project to increased knowledge or understanding of rehabilitation problems, issues, or effective strategies.

(4) The extent to which the proposed project is likely to build local capacity to provide, improve, or expand services that address the needs of the target population.

(b) Quality of the Project Design (20 Points):

The Secretary considers the quality of the design of the proposed project. In determining the quality of the design of the proposed project, the Secretary considers the following factors:

(1) The extent to which the goals, objectives, and outcomes to be achieved by the proposed project are clearly specified and measurable.

(2) The extent to which the design of the proposed project is appropriate to, and will successfully address, the needs of the target population or other identified needs.

(3) The extent to which the proposed project will establish linkages with other appropriate agencies and organizations providing services to the target population.

(c) Quality of Project Services (20 Points):

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability.

In addition, the Secretary considers the following factors:

(1) The extent to which the services to be provided by the proposed project are appropriate to the needs of the intended recipients or beneficiaries of those services.

(2) The likely impact of the services to be provided by the proposed project on the intended recipients of those services.

(3) The extent to which the services to be provided by the proposed project involve the collaboration of appropriate partners for maximizing the effectiveness of project services.

(d) Quality of Project Personnel (15 Points):

In determining the quality of project personnel, the Secretary considers the extent to which the applicant encourages applications for employment from persons who are members of groups that have traditionally been underrepresented based on race, color, national origin, gender, age, or disability.

In addition, the Secretary considers the qualifications, including relevant training and experience, of key project personnel.

(e) Adequacy of Resources (10 Points):

The Secretary considers the adequacy of resources for the proposed project. In determining the adequacy of resources for the proposed project, the Secretary considers the following factors:

(1) The adequacy of support, including facilities, equipment, supplies, and other resources, from the applicant organization or the lead applicant organization.

(2) The extent to which the costs are reasonable in relation to the objectives, design, and potential significance of the proposed project.

(3) The extent to which the costs are reasonable in relation to the number of persons to be served and to the anticipated results and benefits.

(f) Quality of the Management Plan (15 Points):

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The adequacy of procedures for ensuring feedback and continuous improvement in the operation of the proposed project.

(3) The extent to which the time commitments of the project director and principal investigator and other key project personnel are appropriate and adequate to meet the objectives of the proposed project.

(g) Quality of the Project Evaluation (10 Points):

The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation include the use of objective performance measures that are clearly related to the intended outcomes of the project and will produce quantitative and qualitative data to the extent possible.

(3) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Government Performance and Results Act of 1993 (GPRA) directs Federal departments and agencies to improve the effectiveness of their programs by engaging in strategic planning, setting outcome-related goals for programs, and measuring program results against those goals.

For the purposes of GPRA and Department reporting under 34 CFR 75.110, we have established the following performance measures for this program:

(a) Of all AIVRS project staff, the number and percentage of AIVRS project staff that complete at least on personnel preparation class offered by the AIVRTTAC.

(b) Of all AIVRS projects, the number and percentage of AIVRS projects that have at least one staff member that has completed at least one personnel preparation class offered by the AIVRTTAC.

(c) Of all AIVRS project staff, the number and percentage of AIVRS project staff that receive a certificate based on classes offered by the AIVRTTAC.

(d) Of AIVRS projects that received intensive training and technical assistance, the number and percentage of AIVRS projects that completed all activities in the intensive TA agreement.

(e) Of AIVRS projects that received intensive training and technical assistance, the number and percentage of AIVRS projects that show an increase in consumers achieving an employment outcome compared to the prior year.

(f) Of AIVRS projects that received intensive training and technical assistance, the number and percentage of AIVRS projects that show an increase in consumers receiving services under an IPE compared to the prior year.

Applicable short-term and long-term indicators and targets will be specified in the AIVRTTAC cooperative agreement.

Annual project progress toward meeting project goals must be posted on the project website.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs. Delegated the authority to perform the functions and duties of the Assistant Secretary for the Office of Special Education and Rehabilitative Services.

[FR Doc. 2021-05429 Filed 3-11-21; 4:15 pm]

BILLING CODE 4000-01-P